DEPARTMENT OF THE INTERIOR

National Park Service

[N6909; NPS-WASO-NAGPRA-NPS0041980; PPWOCRADN0-PCU00RP14.R50000]

Notice of Inventory Completion: University of Alabama at Birmingham, Birmingham, AL

AGENCY: National Park Service, Interior.

ACTION: Notice.

SUMMARY: In accordance with the Native American Graves Protection and Repatriation Act (NAGPRA), the University of Alabama at Birmingham has completed an inventory of human remains and associated funerary objects and has determined that there is a cultural affiliation between the human remains and associated funerary objects and Indian Tribes or Native Hawaiian organizations in this notice.

DATES: Repatriation of the human remains and associated funerary objects in this notice may occur on or after March 13, 2026.

ADDRESSES: Send written requests for repatriation of the human remains and associated funerary objects in this notice to Dr. Lauren Downs, University of Alabama at Birmingham, Department of Anthropology, UH 3165, 17202nd Avenue South, Birmingham, AL 35294, email nagprastaff@uab.edu.

SUPPLEMENTARY INFORMATION: This notice is published as part of the National Park Service's administrative responsibilities under NAGPRA. The determinations in this notice are the sole responsibility of the University of Alabama at Birmingham, and additional information on the determinations in this notice, including the results of consultation, can be found in its inventory or related records. The National Park Service is not responsible for the determinations in this notice.

Abstract of Information Available

Ancestor remains representing, at least, one individual have been identified. The 818 associated funerary objects are 253 pottery sherds, decorated and undecorated; 507 chert lithic flakes; three lots of faunal remains, species unidentified; three lots of charcoal and soil; two lots of comingled charcoal, soil, and faunal remains; two clay pipe fragments; 24 chert lithic tool fragments; six greenstone flakes; two pigment fragments, including limonite and hematite; two charcoal fragments; 10 miscellaneous stones; one burned shell fragment; one daub fragment; one calcined shell fragment; and one broken clay bead. Site 1Cu24 is a multi-component village site, located on a high terrace of Mulberry Fork of the Black Warrior River in Cullman County, AL. The collection was removed from the site by University of Alabama at Birmingham, Department of Anthropology faculty member Dr. Roger Nance as part of a university-sponsored field school in 1989-1990. Based on diagnostic artifacts from the site, site use dates to the Late Archaic (3800 BC-1200 BC), Woodland (1200 BC-A.D. 1000), and Early Mississippian (A.D. 1000-1350) periods. The ancestor and belongings likely date to the Late Woodland to Early Mississippian periods. There is no record of any potentially hazardous substances being used to treat either the ancestor or the associated belongings.

Cultural Affiliation

Based on the information available and the results of consultation, cultural affiliation is reasonably identified by the geographical location or acquisition history of the human remains and associated funerary objects described in this notice.

Determinations

The University of Alabama at Birmingham has determined that:

• The human remains described in this notice represent the physical remains of one individual of Native American ancestry.

• The 818 objects described in this notice are reasonably believed to have been placed intentionally with or near individual human remains at the time of death or later as part of the death rite or ceremony.

• There is a connection between the human remains and associated funerary objects described in this notice and the Alabama-Coushatta Tribe of Texas; Poarch Band of Creek Indians; The Muscogee (Creek) Nation; and the Thlopthlocco Tribal Town.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after March 13, 2026. If competing requests for repatriation are received, the University of Alabama at Birmingham must determine the most appropriate requestor prior to repatriation. Requests for joint repatriation of the human remains and associated funerary objects are considered a single request and not competing requests. The University of Alabama at Birmingham is responsible for sending a copy of this notice to the Indian Tribes and Native Hawaiian organizations identified in this notice and any other consulting parties.

Authority: Native American Graves Protection and Repatriation Act, 25 U.S.C. 3003, and the implementing regulations, 43 CFR 10.10.

Dated: February 4, 2026.
Melanie O'Brien,
Manager, National NAGPRA Program.

[FR Doc. 2026-02693 Filed 2-10-26; 8:45 am]

BILLING CODE 4312-52-P